ENVIRONMENTAL PROTECTION AGENCY

40 CFR Part 300

[EPA-HQ-SFUND-1986-0005; FRL-9990-14-Region 2]

National Oil and Hazardous Substances Pollution Contingency Plan; National Priorities List: Partial Deletion of the Robintech, Inc./National Pipe Co. Superfund Site

AGENCY: Environmental Protection Agency (EPA).

ACTION: Proposed rule; notification of intent.

SUMMARY: The Environmental Protection Agency (EPA) Region 2 is concurrently issuing this Notice of Intent for Partial Deletion (NOIPD) and a Notice of Partial Deletion (NOPD) of the Robintech, Inc./National Pipe Co. Superfund site (Site), located in the Town of Vestal, New York. The Site includes an approximately 12.7-acre parcel of property (hereinafter, “Property”) and areas that have been affected by the release or threat of release of hazardous substances to the west of the Property extending toward the Susquehanna River (hereinafter, “Off-Property”). Because no further response actions under the Comprehensive Environmental Response, Compensation, and Liability Act, as amended (CERCLA), other than groundwater monitoring, periodic IC verification, and five-year reviews, as well as O&M activities, as necessary, are needed for the Property's overburden soil and overburden groundwater and an approximately 9.7-acre portion of the bedrock aquifer underlying the Property, EPA is issuing this NOIPD of this area of the Site from the National Priorities List (NPL) and requests public comments on this proposed action.

DATES: Comments must be received by April 12, 2019.

ADDRESSES: Submit your comments, identified by Docket ID no. EPA-HQ-SFUND-1986-0005, by mail to Mark Granger, Remedial Project Manager, Emergency and Remedial Response Division, U.S. Environmental Protection Agency, Region 2, 290 Broadway, 20th Floor, New York, NY 10007-1866. Comments may also be submitted electronically or through hand delivery/courier by following the detailed instructions in the ADDRESSES section of the direct final rule located in the rules section of this Federal Register.

FOR FURTHER INFORMATION CONTACT: Mr. Granger at the address noted above; telephone at 212-637-3351; or by email at granger.mark@epa.gov.

SUPPLEMENTARY INFORMATION: In the “Rules and Regulations” section of this issue of the Federal Register, EPA is publishing a direct final Notice of Partial Deletion (NOPD) of the Site concurrently with this NOIPD because EPA views this as a noncontroversial revision and anticipates no adverse comment. EPA has explained its reasons for this partial deletion in the preamble to the direct final Notice of Partial Deletion. If EPA receives no adverse comment(s) on this NOIPD or the direct final NOPD, EPA will proceed with the partial deletion without further action on this NOIPD. If EPA receives adverse comment(s), EPA will withdraw the direct final NOPD, and it will not take effect. EPA will, as appropriate, address all public comments in a subsequent final NOPD based on this NOIPD. EPA will not institute a second comment period on this NOIPD. Any parties interested in commenting must do so at this time. For additional information, see the direct final NOPD, which is located in the “Rules and Regulations” section of this Federal Register.

List of Subjects in 40 CFR Part 300

Environmental protection, Air pollution control, Chemicals, Hazardous waste, Hazardous substances, Intergovernmental relations, Penalties, Reporting and recordkeeping requirements, Superfund, Water pollution control, Water supply.

Dated: October 18, 2018.
Peter D. Lopez,
Regional Administrator, EPA Region 2.

Editorial note: This document was received for publication by the Office of the Federal Register on March 7, 2019.

[FR Doc. 2019-04510 Filed 3-12-19; 8:45 am]

BILLING CODE 6560-50-P